NATIONAL CREDIT UNION ADMINISTRATION

Sunshine Act Meetings

TIME AND DATE: 10:00 a.m., Thursday, January 25, 2018.

PLACE: Board Room, 7th Floor, Room 7047, 1775 Duke Street (All visitors must use Diagonal Road Entrance), Alexandria, VA 22314-3428.

STATUS: Open.

MATTERS TO BE CONSIDERED:

1. Board Briefing, Civil Monetary Penalty Statutory Inflation Adjustment.

2. NCUA Rules and Regulations, Involuntary Liquidation and Claims Procedures.

3. NCUA's 2018—2022 Strategic Plan, and 2018 Annual Performance Plan.

4. Board Briefing, Call Report Modernization.

RECESS: 11:00 a.m.

TIME AND DATE: 11:15 a.m., Thursday, January 25, 2018.

PLACE: Board Room, 7th Floor, Room 7047, 1775 Duke Street, Alexandria, VA 22314-3428.

STATUS: Closed.

MATTERS TO BE CONSIDERED:

1. Supervisory Action. Closed pursuant to Exemptions (8), (9)(i)(B), and (9)(ii).

FOR FURTHER INFORMATION CONTACT: Gerard Poliquin, Secretary of the Board, Telephone: 703-518-6304.

Gerard Poliquin,
Secretary of the Board.

[FR Doc. 2018-01181 Filed 1-18-18; 4:15 pm]

BILLING CODE 7535-01-P